DEPARTMENT OF ENERGY

Notice of Stakeholder Meetings To Receive Input on the U.S. Department of Energy (DOE) Energy Storage Grand Challenge (ESGC) Initiative

AGENCY: Office of Electricity, DOE.

ACTION: Notice of stakeholder meetings.

SUMMARY: The ESGC is a cross-cutting initiative to utilize resources from across DOE to accelerate research & development (R&D), commercialization, and implementation of cutting-edge energy storage technologies to promote United States global leadership in the energy storage technologies of the future. The U.S. DOE Research and Technology Investment Committee (RTIC) Energy Storage Subcommittee intends to hold Stakeholder Meetings to receive input on the approaches and activities for the ESGC initiative.

DATES: The locations and dates of these meetings are as follows:

• Seattle, WA on March 6, 2020. Please express your interest to attend by February 27.

• Austin, TX on March 10, 2020. Please express your interest to attend by March 2.

• Chicago, IL on March 17, 2020. Please express your interest to attend by March 2.

• Washington, DC on March 26, 2020. Please express your interest to attend by March 11.

ADDRESSES:

The Stakeholder Meetings will take place from 8:30 a.m. to 5:00 p.m. local time. The meeting times may change to accommodate Workshop business.

For the Seattle, WA Meeting:

The Westin Seattle, 1900 5th Ave., Seattle, WA 98101.

For the Austin, TX Meeting:

The University of Texas at Austin, Thompson Conference Center, 2405 Robert Dedman Dr., Austin, Texas 78712.

For the Chicago, IL Meeting:

Argonne in the City, 5235 S. Harper Court, Chicago, Ill 60651.

For the Washington, DC Meeting:

DoubleTree Crystal City, 300 Army Navy Drive, Arlington, VA 22202.

Due to space constraints, there will be limited seating available; therefore, the public meeting will be open to a limited number of parties. If you are interested in attending any of these meetings, please express interest at www.energy.gov/energy-storage-grand-challenge/events. Additionally, if you are a foreign national and wish to participate, please inform DOE of this fact as soon as possible by contacting Ms. Stacy Byrd at Stacy.Byrd@hq.doe.gov so that the necessary procedures can be completed.

You will be notified via email at least 4 days before the date of the meeting if you were confirmed as an attendee.

FOR FURTHER INFORMATION CONTACT:

Vinod Siberry, U.S. Department of Energy, Office of Electricity, 1000 Independence Avenue SW, Washington, DC 20585-0121, (202) 586-1207, or rticstorage@hq.doe.gov. Please include “Further Information” in the email's subject line. In the body of the email, please include your name, organization, and contact information, in addition to your question or inquiry.

SUPPLEMENTARY INFORMATION:

The ESGC intends to create a cross-cutting strategy for U.S. leadership in energy storage by focusing efforts across five tracks:

(1.) Technology Development: Establish ambitious, achievable performance goals, and a comprehensive R&D portfolio to achieve them;

(2.) Technology Transition: Accelerate the technology pipeline from research to system design to private sector adoption through rigorous system evaluation, performance validation, siting tools, and targeted collaborations;

(3.) Policy and Valuation: Develop best-in-class models, data, and analysis to inform the most effective value proposition and use cases for storage technologies;

(4.) Manufacturing and Supply Chain: Design new technologies to strengthen U.S. manufacturing and recyclability, and to reduce dependence on foreign sources of critical minerals; and

(5.) Workforce: Train the next generation of American workers to meet the needs of the 21st century electric grid and energy storage value chain.

All of these meetings will address the Technology Development Track, with a potential sub-focus in one or more of the other tracks.

Signed in Washington, DC, on February 13, 2020.
Bruce J. Walker,
Assistant Secretary, Office of Electricity, U.S. Department of Energy.

[FR Doc. 2020-03231 Filed 2-18-20; 8:45 am]

BILLING CODE 6450-01-P